DEPARTMENT OF COMMERCE

International Trade Administration

A-583-833

A-580-839

Certain Polyester Staple Fiber From Taiwan and the Republic of Korea: Notice of Extension of Time Limit for the 2005-2006 Administrative Reviews

AGENCY: Import Administration, International Trade Administration, Department of Commerce.

EFFECTIVE DATE: January 16, 2007.

FOR FURTHER INFORMATION CONTACT: Devta Ohri or Andrew McAllister, AD/CVD Operations, Office 1, Import Administration, International Trade Administration, U.S. Department of Commerce, 14th Street and Constitution Avenue, NW, Washington, DC 20230, telephone (202) 482-3853 or (202) 482-1174, respectively.

SUPPLEMENTARY INFORMATION:

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On July 3, 2006, the Department published a notice of initiation of administrative reviews of the antidumping duty orders on certain polyester staple fiber (“PSF”) from Taiwan and the Republic of Korea (“Korea”), covering the period May 1, 2005, through April 30, 2006. See Initiation of Antidumping and Countervailing Duty Administrative Reviews, 71 FR 37892 (July 3, 2006). The preliminary results for these reviews are currently due no later than January 31, 2007.

Extension of Time Limits for Preliminary Results

The Department requires additional time to review and analyze respondents' sales and cost information and to issue supplemental questionnaires. Thus, it is not practicable to complete these reviews within the previously established time limit (i.e., by January 31, 2007). Therefore, the Department is extending the time limit for completion of these preliminary results by 120 days to not later than May 31, 2007, in accordance with section 751(a)(3)(A) of the Act.

We are issuing and publishing this notice in accordance with sections 751(a)(3)(A) and 777(i)(1) of the Act.

Dated: January 9, 2007.
Stephen J. Claeys,
Deputy Assistant Secretary for Import Administration.

[FR Doc. E7-456 Filed 1-12-07; 8:45 am]

BILLING CODE 3510-DS-S